INTERNATIONAL TRADE COMMISSION

Investigation No. 731-TA-1661 (Final)]

Glass Wine Bottles From Chile; Termination of Investigation

AGENCY: International Trade Commission.

ACTION: Notice.

SUMMARY: The subject investigation was requested in petitions filed on December 29, 2023, by the U.S. Glass Producers Coalition, which is comprised of Ardagh Glass Inc., Indianapolis, Indiana and the United Steel, Paper and Forestry, Rubber, Manufacturing, Energy, Allied Industrial and Service Workers International Union, Pittsburgh, Pennsylvania. On December 10, 2024, counsel for the petitioner filed with the Department of Commerce a request to withdraw its petition regarding imports of glass wine bottles from Chile. On December 30, 2024, the Department of Commerce published notice in the Federal Register of the termination of its subject investigation concerning glass wine bottles from Chile (89 FR 106425). Accordingly, the antidumping duty investigation concerning glass wine bottles from Chile (Investigation No. 731-TA-1661 (Final)) is terminated.

DATES: December 30, 2024.

FOR FURTHER INFORMATION CONTACT: Charles Cummings (202-708-1666), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

Authority: This investigation is being terminated under authority of title VII of the Tariff Act of 1930 and pursuant to section 207.40(a) of the Commission's Rules of Practice and Procedure (19 CFR 207.40(a)). This notice is published pursuant to section 201.10 of the Commission's rules (19 CFR 201.10).

By order of the Commission.
Issued: January 3, 2025.
Lisa Barton,
Secretary to the Commission.

[FR Doc. 2025-00225 Filed 1-7-25; 8:45 am]

BILLING CODE 7020-02-P